DEPARTMENT OF TRANSPORTATION

Federal Aviation Administration

14 CFR Part 71

[Docket No. FAA-2006-26364; Airspace Docket No. 06-ANM-12]

Establishment of Class E Airspace; Beaver, UT

AGENCY: Federal Aviation Administration (FAA), DOT.

ACTION: Final rule.

SUMMARY: This action will establish Class E airspace at Beaver, UT. Additional Class E airspace is necessary to accommodate aircraft using a new Area Navigation (RNAV) Global Positioning System (GPS) Instrument Approach Procedure (SIAP) at Beaver Municipal Airport. This will improve the safety of Instrument Flight Rules (IFR) aircraft executing the new RNAV GPS IAP at Beaver Municipal Airport, Beaver, UT.

DATES: 0901 UTC, October 25, 2007. The Director of the Federal Register approves this incorporation by reference action under 1 CFR part 51, subject to the annual revision of FAA Order 740.9 and publication of conforming amendments.

FOR FURTHER INFORMATION CONTACT: Ed Haeseker, Federal Aviation Administration, System Support Group, Western Service Area, 1601 Lind Avenue, SW., Renton, WA 98057; telephone (425) 917-6714.

SUPPLEMENTARY INFORMATION:

History

On February 23, 2007, the FAA published in the Federal Register a notice of proposed rulemaking to establish Class E airspace at Beaver, UT, (72 FR 8136). This action would improve the safety of IFR aircraft executing this new RNAV GPS approach procedure at Beaver Municipal Airport, Beaver, UT. Interested parties were invited to participate in this rulemaking effort by submitting written comments on the proposal to the FAA. No comments were received.

Class E airspace designations are published in paragraph 6005 of FAA Order 7400.9P, dated September 1, 2006, and effective September 15, 2006, which is incorporated by reference in 14 CFR 71.1. The Class E airspace designation listed in this document will be published subsequently in this Order.

The Rule

This action amends Title 14 Code of Federal Regulations (14 CFR) part 71 by establishing Class E airspace at Beaver, UT. Additional controlled airspace is necessary to accommodate IFR aircraft executing the new RNAV (GPS) approach procedure at Beaver Municipal Airport, Beaver, UT.

The FAA has determined that this regulation only involves an established body of technical regulations for which frequent and routine amendments are necessary to keep them operationally current. Therefore, this regulation; (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended].

2. The incorporation by reference in 14 CFR 71.1 of the Federal Aviation Administration Order 7400.9P, Airspace Designations and Reporting Points, dated September 1, 2006, and effective September 15, 2006 is amended as follows:

Paragraph 6005 Class E airspace areas extending upward from 700 feet or more above the surface of the earth.

* * * * *

ANM UT E5 Beaver, UT [New]

Beaver Municipal Airport, UT

(Lat. 38°13′51″ N., long. 112°40′31″ W.)

Bryce Canyon VORTAC

(Lat. 37°41′21″ N., long. 112°18′14″ W.)

That airspace extending upward from 700 feet above the surface within a 5.0-mile radius of Beaver Municipal Airport and within 3 miles each side of the 261° bearing from the Airport extending from the 5.0-mile radius to 14.0 miles west of the Airport, and that airspace extending upward from 1,200 feet above the surface beginning at lat. 38°19′24″ N., long. 113°30′00″ W.; thence east on V-244 to lat. 38°22′22″ N., long. 112°37′47″ W.; thence south on V-257 to BRYCE CANYON VORTAC; thence west on V-293 to lat. 37°56′30″ N., long. 113°00′00″ W.; to point of beginning.

* * * * *

Issued in Seattle, Washington, on April 26, 2007.
Clark Desing,
Manager, System Support Group, Western Service Center.

[FR Doc. E7-15579 Filed 8-9-07; 8:45 am]

BILLING CODE 4910-13-P